DEPARTMENT OF COMMERCE

National Oceanic and Atmospheric Administration

RIN 0648-XD018

Endangered and Threatened Species; Take of Anadromous Fish

AGENCY: National Marine Fisheries Service (NMFS), National Oceanic and Atmospheric Administration (NOAA), Commerce.

ACTION: Notice; availability of hatchery plans and request for comment.

SUMMARY: Notice is hereby given that the Oregon Department of Fish and Wildlife (ODFW) has submitted four Hatchery and Genetic Management Plans (HGMPs) pursuant to the protective regulations promulgated for Pacific salmon and steelhead under the Endangered Species Act (ESA). The HGMPs specify the operations of four hatchery programs rearing salmon and steelhead in the Sandy River subbasin within the State of Oregon. This document serves to notify the public of the availability of the HGMPs for comment prior to a decision by NMFS whether to approve the proposed hatchery programs.

DATES: Comments must be received at the appropriate address or fax number (see ADDRESSES) no later than 5 p.m. Pacific time on January 9, 2014.

ADDRESSES: Written comments on the application should be addressed to the NMFS Sustainable Fisheries Division, 1201 NE. Lloyd Boulevard, Suite 1100, Portland, OR 97232, or faxed to 503-872-2737. Comments may be submitted by email. The mailbox address for providing email comments is: SandyHatcheries2013.wcr@noaa.gov. Include in the subject line of the email comment the following identifier: Comments on Oregon's 2013 Sandy hatchery plans.

FOR FURTHER INFORMATION CONTACT: Rich Turner, at phone number: (503) 736-4737, or via email: Rich.Turner@noaa.gov.

SUPPLEMENTARY INFORMATION:

Species Covered in This Notice

Chinook salmon (Oncorhynchus tshawytscha): Threatened, naturally produced and artificially propagated Lower Columbia River.

Chum salmon (O. keta): Threatened, naturally produced and artificially propagated Columbia River.

Coho salmon (O. kisutch): Threatened, naturally produced and artificially propagated Lower Columbia River.

Steelhead (O. mykiss): Threatened, naturally produced and artificially propagated Lower Columbia River.

Pacific eulachon (Thaleichthys pacificus): Threatened, naturally produced southern distinct population segment.

ODFW has previously submitted to NMFS four HGMPs describing hatchery programs that release salmon and steelhead into the Sandy River that were found, in a September 28, 2012, determination, to comply with requirements of the ESA under limit 5 of the 4(d) Rule. These programs were designed to meet mitigation responsibilities related to impacts from development in the Sandy River and Columbia River basins by providing hatchery fish to support fishing opportunities while minimizing potential risks to natural-origin spring Chinook salmon, coho salmon, and winter steelhead populations, consistent with Oregon's Lower Columbia River Conservation and Recovery Plan for Oregon Populations of Salmon and Steelhead. The September 28, 2012, determination remains in effect.

Since the determination, ODFW has identified changes it wishes to make to its hatchery operations and has submitted to NMFS four revised HGMPs describing changes to the current hatchery programs. The revised Spring Chinook Salmon HGMP includes the incorporation of natural-origin Chinook salmon into the broodstock, a reduction in the number of juveniles released, and changes in rearing locations. The revised Winter Steelhead Program HGMP includes the incorporation of natural-origin winter steelhead into the broodstock. The revised Coho Salmon Program and the Summer Steelhead Program HGMPs include changes to rearing locations. Submittal of these four revised HGMPs constitutes the proposed action and the revised HGMPs are the subject of this notice.

As specified in the July 10, 2000, ESA 4(d) rule for salmon and steelhead (65 FR 42422) and updated June 28, 2005 (70 FR 37160), NMFS may approve an HGMP if it meets criteria set forth in 50 CFR 223.203(b)(5)(i)(A) through (K). Prior to final approval of an HGMP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Dated: December 4, 2013.
Angela Somma,
Chief, Endangered Species Division, Office of Protected Resources, National Marine Fisheries Service.

[FR Doc. 2013-29399 Filed 12-9-13; 8:45 am]

BILLING CODE 3510-22-P